DEPARTMENT OF AGRICULTURE

Agricultural Marketing Service

7 CFR Part 929

[Docket No. FV01-929-3C FR]

Cranberries Grown in the States of Massachusetts, et al.; Increased Assessment Rate; Correction

AGENCY: Agricultural Marketing Service, USDA.

ACTION: Correction to final rule.

SUMMARY: This document contains a correction to the final rule published on February 14, 2002 (67 FR 6843), concerning cranberries grown in Massachusetts, et al. The correction is made in the amendatory instruction section of the final rule.

DATES: Effective March 28, 2002.

FOR FURTHER INFORMATION CONTACT: Kenneth G. Johnson, DC Marketing Field Office, Fruit and Vegetable Programs, AMS, USDA, Suite 2A04, Unit 155, 4700 River Road, Riverdale, Maryland 20737; telephone: (301) 734-5243, Fax: (301) 734-5275; or George Kelhart, Technical Advisor, Marketing Order Administration Branch, Fruit and Vegetable Programs, AMS, USDA, room 2525-S, 1400 Independence Avenue, SW Stop 0237, Washington, DC 20250-0237; telephone: (202) 720-2491, Fax: (202) 205-8938.

SUPPLEMENTARY INFORMATION:

Background

This rule increases the assessment rate established under the cranberry marketing order for the 2001-2002 and subsequent fiscal years from $.08 to $.18 per barrel of cranberries handled. This assessment rate increase was recommended by the Committee to fund a domestic market development program to increase demand for cranberries and cranberry products and thus expand cranberry shipments. The rule was issued under Marketing Order No. 929, as amended (7 CFR Part 929). The order is effective under the Agricultural Marketing Agreement Act of 1937, as amended (7 U.S.C. 601-674).

Correction

In FR Doc. 02-3635, published February 14, 2002 (67 FR 6843) make the following correction.

§ 929.236 [Corrected]

On page 6846, in column 1, instruction number 2, and the section heading are corrected to read as follows:

2. Section 929.236 is revised to read as follows:

§ 929.236 Assessment rate.

Dated: March 21, 2002.
A.J. Yates,
Administrator, Agricultural Marketing Service.

[FR Doc. 02-7425 Filed 3-27-02; 8:45 am]

BILLING CODE 3410-02-P